DEPARTMENT OF THE TREASURY

Office of Foreign Assets Control

31 CFR Chapter V and Part 539

Additional Designations and Removal of Persons Listed in Appendix A to 31 CFR Chapter V and Appendix I to 31 CFR Part 539, Weapons of Mass Destruction Trade Control Regulations

AGENCY: Office of Foreign Assets Control, Treasury.

ACTION: Amendment of final rule.

SUMMARY: The Treasury Department is amending appendix A to 31 CFR chapter V to add or remove, as appropriate, the names of individuals and entities designated as specially designated narcotics traffickers, a foreign terrorist organization, or blocked persons or specially designated nationals designated pursuant to Executive Orders 13088, 13192, or 13219; amending the notes to the appendices to 31 CFR chapter V to reflect the revisions to appendix A and the publication of the Taliban (Afghanistan) Sanctions Regulations, 31 CFR part 545; and amending appendix I to 31 CFR part 539 to remove two entities previously designated as designated foreign persons.

EFFECTIVE DATE: November 9, 2001.

FOR FURTHER INFORMATION CONTACT: Office of Foreign Assets Control, Department of the Treasury, Washington, D.C. 20220, tel.: 202/622-2520.

SUPPLEMENTARY INFORMATION:

Electronic and Facsimile Availability

This document is available as an electronic file on The Federal Bulletin Board the day of publication in the Federal Register. By modem, dial 202/512-1387 and type “/GO FAC,” or call 202/512-1530 for disk or paper copies. This file is available for downloading without charge in ASCII and Adobe Acrobat7 readable (*.PDF) formats. For Internet access, the address for use with the World Wide Web (Home Page), Telnet, or FTP protocol is: fedbbs.access.gpo.gov. This document and additional information concerning the programs of the Office of Foreign Assets Control are available for downloading from the Office's Internet Home Page: http://www.treas.gov/ofac, or in fax form through the Office's 24-hour fax-on-demand service: call 202/622-0077 using a fax machine, fax modem, or (within the United States) a touch-tone telephone.

Background

A. Amendments to Appendix A and the Notes to the Appendices to 31 CFR Chapter V

Appendix A to 31 CFR chapter V lists the names of blocked persons, specially designated nationals, specially designated terrorists, foreign terrorist organizations, and specially designated narcotics traffickers with respect to whom transactions are subject to the various economic sanctions programs administered by the Treasury Department's Office of Foreign Assets Control (“OFAC”). OFAC, acting under authority delegated by the Secretary of the Treasury, is amending appendix A to add or remove, as appropriate, the names of individuals and entities designated as specially designated narcotics traffickers, a foreign terrorist organization, or blocked persons or specially designated nationals designated pursuant to Executive Orders 13088, 13192, or 13219. OFAC is also amending notes 4 and 6 to the notes to the appendices to 31 CFR chapter V to reflect the revisions to appendix A and the publication of the Taliban (Afghanistan) Sanctions Regulations, 31 CFR part 545.

Specially Designated Narcotics Traffickers. On June 1, 2001, President Bush identified twelve individuals as significant foreign narcotics traffickers pursuant to section 804(b) of the Foreign Narcotics Kingpin Designation Act, 21 U.S.C. 1903(b). In accordance with § 598.314 of the Foreign Narcotics Kingpin Sanctions Regulations, 31 CFR part 598, those twelve individuals and their known aliases are added to appendix A as specially designated narcotics traffickers identified by the term “[SDNTK].”

As of June 1, 2001, all property and interests in property, including but not limited to all accounts, that are or come within the United States or that are or come within the possession or control of U.S. persons, including their overseas branches, that are owned or controlled by any of those twelve persons are with limited exceptions blocked and may not be transferred, paid, exported, withdrawn, or otherwise dealt in. All transactions or dealings by U.S. persons or within the United States in property or interests in property of any of those twelve persons are prohibited unless licensed by OFAC or otherwise authorized.

Foreign Terrorist Organization. On May 16, 2001, the Secretary of State in a notice published in the Federal Register (66 FR 27442) designated the “Real IRA” a foreign terrorist organization pursuant to section 302 of the Antiterrorism and Effective Death Penalty Act of 1996, 8 U.S.C. 1189 (“AEDPA”). In furtherance of section 303 of AEDPA, 18 U.S.C. 2339B, implemented in part by the Foreign Terrorist Organizations Sanctions Regulations, 31 CFR part 597 (the “FTO Regulations”), the “Real IRA” and its known aliases are added to appendix A as a foreign terrorist organization identified by the term “[FTO].”

Section 303 of AEDPA, as implemented in part by § 597.201 of the FTO Regulations, requires financial institutions in possession or control of funds in which a foreign terrorist organization or its agent has an interest to block such funds except as authorized pursuant to the FTO Regulations, and to file reports in accordance with the FTO Regulations. Financial institutions that violate section 303(a)(2) of AEDPA, 18 U.S.C. 2339B(a)(2), and the FTO Regulations are subject to civil penalties administered by OFAC.

Specially Designated Nationals and Blocked Persons; Executive Orders 13088 and 13192. On January 17, 2001, President Clinton issued Executive Order 13192 (66 FR 7379, Jan. 23, 2001), lifting with respect to future transactions remaining sanctions imposed on the Governments of the Federal Republic of Yugoslavia (Serbia & Montentegro) (“FRY(S&M)”) and the Republic of Serbia pursuant to Executive Order 13088 (63 FR 32109, June 12, 1998), as amended by Executive Order 13121 (64 FR 24021, May 5, 1999). (Sanctions imposed on the Government of the Republic of Montenegro had previously been suspended by OFAC general licenses.) Consistent with the lifting of the sanctions on a prospective basis, all entries for individuals or entities identified by the term “[FRYK]” are removed from appendix A. Notes 4 and 6 to the appendices to 31 CFR chapter V are amended to remove the identifying term for “[FRYK]” entries. Because Executive Order 13192 requires all property blocked before January 19, 2001, to remain blocked due to the need to address possible claims and encumbrances involving the property, a separate, comprehensive list of “[FRYK]” entries is available to the public upon request from OFAC's Compliance Programs Division at (202) 622-2490. Similar lists are available with respect to persons whose property and interests in property continue to be blocked pursuant to part 585 of 31 CFR chapter V. See 61 FR 1282 (Jan. 19, 1996); 61 FR 24696 (May 16, 1996).

Executive Order 13192 also imposes sanctions on designated family members, supporters, and members of the regime of former FRY(S&M) President Slobodan Milosevic, as well as certain persons under open indictment by the International Criminal Tribunal for the former Yugoslavia and other specified parties. In an annex to the order, President Clinton identified eighty-one individuals with respect to whom transactions currently are subject to those sanctions. Those individuals are added to appendix A as blocked persons and are identified by the term “[FRYM].” Notes 4 and 6 to the appendices to 31 CFR chapter V are amended to add the identifying term “[FRYM].”

As of January 19, 2001, all property and interests in property, including but not limited to all accounts, that are or come within the United States or that are or come within the possession or control of U.S. persons, including their overseas branches, that are owned or controlled by any of those eighty-one persons are with limited exceptions blocked and may not be transferred, paid, exported, withdrawn, or otherwise dealt in. All transactions or dealings by U.S. persons or within the United States in property or interests in property of any of those eighty-one persons are prohibited unless licensed by OFAC or otherwise authorized.

Blocked Persons; Executive Order 13219. On June 26, 2001, President Bush issued Executive Order 13219 (66 FR 34777, June 29, 2001), imposing economic sanctions on persons who threaten international stabilization efforts in the Western Balkans region. In an annex to the order, President Bush identified twenty-three individuals and five organizations with respect to whom transactions currently are subject to those sanctions. Those individuals and organizations are added to appendix A as blocked persons and are identified by the term “[Balkans].” Note 6 to the appendices to 31 CFR chapter V is amended to add the identifying term “[Balkans]” and to provide the citation to Executive Order 13219.

As of June 27, 2001, all property and interests in property, including but not limited to all accounts, that are or come within the United States or that are or come within the possession or control of U.S. persons, including their overseas branches, that are owned or controlled by any of those twenty-three individuals or five organizations are with limited exceptions blocked and may not be transferred, paid, exported, withdrawn, or otherwise dealt in. This blocking includes, but is not limited to, the prohibition of the making or receiving by a United States person of any contribution or provision of funds, goods, or services to or for the benefit of any of those individuals or organizations.

Taliban (Afghanistan) Regulations. On January 11, 2001, OFAC published in the Federal Register (66 FR 2729) the Taliban (Afghanistan) Sanctions Regulations, 31 CFR part 545. Note 6 to the notes to the appendices to 31 CFR chapter V is amended to replace the reference to Executive Order 13129 that follows the identifying term “[TALIBAN]” with a reference to those published regulations.

B. Amendments to Appendix I to 31 CFR Part 539

Appendix I to 31 CFR part 539, the Weapons of Mass Destruction Trade Control Regulations, lists the names of foreign persons with respect to whose goods, technology, or services are subject to import prohibitions, based upon a determination by the Secretary of State that the persons have contributed to the proliferation of weapons of mass destruction. On December 19, 2000, the Department of State issued Public Notice 3514 (65 FR 79441), announcing its determination on November 17, 2000, that it is in the foreign policy and national security interests of the United States to remove the restrictions imposed on July 30, 1998, with respect to INOR Scientific Center (“INOR”) and Polyus Scientific Production Association (“Polyus”). Those two entities are removed from appendix I. The authority citation to part 539 is amended to reflect the publication of Executive Order 13094 in the 1998 compilation of Presidential documents.

As of November 17, 2000, the general prohibition on the importation into the United States of goods, technology, or services produced or provided by a “designated foreign person” no longer applies to either INOR or Polyus or to any entity they own or control, and U.S. persons are no longer prohibited from engaging in import-related transactions involving goods, technology, or services produced or provided by any of those entities. See §§ 539.201, 539.202, and 539.301 of the Weapons of Mass Destruction Trade Control Regulations, 31 CFR part 539.

Because this rule involves a foreign affairs function, Executive Order 12866 and the provisions of the Administrative Procedure Act (5 U.S.C. 553), requiring notice of proposed rulemaking, opportunity for public participation, and delay in effective date, are inapplicable. Because no notice of proposed rulemaking is required for this rule, the Regulatory Flexibility Act (5 U.S.C. 601-612) does not apply.

For the reasons set forth in the preamble, and under the authority of 3 U.S.C. 301; 8 U.S.C. 1189; 18 U.S.C. 2339B; 21 U.S.C. 1901-1908; 22 U.S.C. 2751-2799aa-2; 31 U.S.C. 321(b); 50 U.S.C. 1601-1651, 1701-1706; E.O. 12938, 3 CFR, 1994 Comp., p. 950; E.O. 13088, 63 FR 32109, 3 CFR, 1998 Comp., p. 191; E.O. 13094, 63 FR 40803, 3 CFR, 1998 Comp., p. 200; E.O. 13121, 64 FR 24021, 3 CFR, 1999 Comp., p. 176; E.O. 13129, 64 FR 36759, 3 CFR, 1999 Comp., p. 200; E.O. 13192, 66 FR 7379 January 23, 2001; and E.O. 13219, 66 FR 34777, June 29, 2001, the appendices to 31 CFR chapter V and appendix I to 31 CFR part 539 are amended as set forth below:

Appendices to 31 CFR Chapter V

1. The notes to the appendices to 31 CFR chapter V are amended by revising notes 4 and 6 to read as follows:

Notes: * * *

* * * * *

4. Abbreviations: “a.k.a.” means “also known as”; “f.k.a.” means “formerly known as”; “n.k.a.” means “now known as”; “DOB” means “date of birth”; “DWT” means “deadweight”; “FRYM” means “Federal Republic of Yugoslavia (Serbia and Montenegro)—Milosevic”; “GRT” means “Gross Registered Tonnage”; “POB” means “place of birth”.

* * * * *

6. References to regulatory parts in chapter V or other authorities:

[BALKANS]: Executive Order 13219, 66 FR 34778, June 29, 2001;

[CUBA]: Cuban Assets Control Regulations, part 515;

[FRYM]: Executive Order 13192, 66 FR 7379, Jan. 23, 2001;

[FTO]: Foreign Terrorist Organizations Sanctions Regulations, part 597;

[IRAQ]: Iraqi Sanctions Regulations, part 575;

[LIBYA]: Libyan Sanctions Regulations, part 550;

[NKOREA]: Foreign Assets Control Regulations, part 500:

[SDGT]: Executive Order 13224, 66 FR 49079, September 25, 2001;

[SDNT]: Narcotics Trafficking Sanctions Regulations, part 536;

[SDNTK]: Foreign Narcotics Kingpin Sanctions Regulations, part 598;

[SDT]: Terrorism Sanctions Regulations, part 596;

[SUDAN]: Sudanese Sanctions Regulations, part 538;

[TALIBAN]: Taliban (Afghanistan) Sanctions Regulations, part 545;

[UNITA]: UNITA (Angola) Sanctions Regulations, part 590.

* * * * *

Appendix A—[Amended]

2. Appendix A to 31 CFR chapter V is amended by adding the following names and aliases of specially designated narcotics traffickers inserted in alphabetical order:

AFGHAN, Shear (a.k.a. AFGHAN, Sher; a.k.a. AFGHAN, Shir; a.k.a. AZIZ, Mohammad; a.k.a. KHAN, Abdullah) DOB 1962; alt. DOB 1959; POB Pakistan (individual) [SDNTK]

AFGHAN, Sher (a.k.a. AFGHAN, Shear; a.k.a. AFGHAN, Shir; a.k.a. AZIZ, Mohammad; a.k.a. KHAN, Abdullah) DOB 1962; alt. DOB 1959; POB Pakistan (individual) [SDNTK]

AFGHAN, Shir (a.k.a. AFGHAN, Shear; a.k.a. AFGHAN, Sher; a.k.a. AZIZ, Mohammad; a.k.a. KHAN, Abdullah) DOB 1962; alt. DOB 1959; POB Pakistan (individual) [SDNTK]

ALCIDES MAGANA, Ramon (a.k.a. ALCIDES MAGANE, Ramon; a.k.a. ALCIDES MAYENA, Ramon; a.k.a. ALCIDEZ MAGANA, Ramon; a.k.a. GONZALEZ QUIONES, Jorge; a.k.a. MAGANA ALCIDES, Ramon; a.k.a. MAGANA, Jorge; a.k.a. MAGNA ALCIDEDES, Ramon; a.k.a. MATA, Alcides; a.k.a. RAMON MAGANA, Alcedis; a.k.a. RAMON MAGANA, Alcides; a.k.a. ROMERO, Antonio); DOB 4 Sep 1957 (individual) [SDNTK]

ALCIDES MAGANE, Ramon (a.k.a. ALCIDES MAGANA, Ramon; a.k.a. ALCIDES MAYENA, Ramon; a.k.a. ALCIDEZ MAGANA, Ramon; a.k.a. GONZALEZ QUIONES, Jorge; a.k.a. MAGANA ALCIDES, Ramon; a.k.a. MAGANA, Jorge; a.k.a. MAGNA ALCIDEDES, Ramon; a.k.a. MATA, Alcides; a.k.a. RAMON MAGANA, Alcedis; a.k.a. RAMON MAGANA, Alcides; a.k.a. ROMERO, Antonio); DOB 4 Sep 1957 (individual) [SDNTK]

ALCIDES MAYENA, Ramon (a.k.a. ALCIDES MAGANA, Ramon; a.k.a. ALCIDES MAGANE, Ramon; a.k.a. ALCIDEZ MAGANA, Ramon; a.k.a. GONZALEZ QUIONES, Jorge; a.k.a. MAGANA ALCIDES, Ramon; a.k.a. MAGANA, Jorge; a.k.a. MAGNA ALCIDEDES, Ramon; a.k.a. MATA, Alcides; a.k.a. RAMON MAGANA, Alcedis; a.k.a. RAMON MAGANA, Alcides; a.k.a. ROMERO, Antonio); DOB 4 Sep 1957 (individual) [SDNTK]

ALCIDEZ MAGANA, Ramon (a.k.a. ALCIDES MAGANA, Ramon; a.k.a. ALCIDES MAGANE, Ramon; a.k.a. ALCIDES MAYENA, Ramon; a.k.a. GONZALEZ QUIONES, Jorge; a.k.a. MAGANA ALCIDES, Ramon; a.k.a. MAGANA, Jorge; a.k.a. MAGNA ALCIDEDES, Ramon; a.k.a. MATA, Alcides; a.k.a. RAMON MAGANA, Alcedis; a.k.a. RAMON MAGANA, Alcides; a.k.a. ROMERO, Antonio); DOB 4 Sep 1957 (individual) [SDNTK]

ALVAREZ TOSTADO, Jose (a.k.a. CASTELLANOS ALVAREZ TOSTADO, Juan Jose; a.k.a. GONZALEZ, Jose); DOB 27 Aug 1955; POB Mexico (individual) [SDNTK]

AREGON, Max (a.k.a. CARO RODRIGUEZ, Gilberto; a.k.a. GUIERREZ LOERA, Jose Luis; a.k.a. GUMAN LOERAL, Joaquin; a.k.a. GUZMAN, Achivaldo; a.k.a. GUZMAN, Archibaldo; a.k.a. GUZMAN, Aureliano; a.k.a. GUZMAN, Chapo; a.k.a. GUZMAN FERNANDEZ, Joaquin; a.k.a. GUZMAN, Joaquin Chapo; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. ORTEGA, Miguel; a.k.a. OSUNA, Gilberto; a.k.a. RAMIREZ, Joise Luis; a.k.a. RAMOX PEREZ, Jorge) DOB 25 Dec 1954; POB Mexico (individual) [SDNTK]

AZIZ, Mohammad (a.k.a. AFGHAN, Shear; a.k.a. AFGHAN, Sher; a.k.a. AFGHAN, Shir; a.k.a. KHAN, Abdullah) DOB 1962; alt. DOB 1959; POB Pakistan (individual) [SDNTK]

BECERRA, Martin (a.k.a. BECERRA MIRELES, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 1964; POB Mexico (individual) [SDNTK]

BECERRA MIRELES, Martin (a.k.a. BECERRA, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 1964; POB Mexico (individual) [SDNTK]

CARDENAS CASTILLO, Osiel (a.k.a. CARDENAS GILLEN, Osiel; a.k.a. CARDENAS GUILLEN, Ociel; a.k.a. CARDENAS GUILLEN, Oscar; a.k.a. CARDENAS GUILLEN, Osiel; a.k.a. CARDENAS GUILLEN, Oziel; a.k.a. CARDENAS GULLEN, Osiel; a.k.a. CARDENAS TUILLEN, Osiel; a.k.a. SALINA AGUILAR, Jorge; a.k.a. SALINAS AGUILAR, Jorge) DOB 18 May 1967; POB Mexico (individual) [SDNTK]

CARDENAS GILLEN, Osiel (a.k.a. CARDENAS CASTILLO, Osiel; a.k.a. ; a.k.a. CARDENAS GUILLEN, Ociel; a.k.a. CARDENAS GUILLEN, Oscar; a.k.a. CARDENAS GUILLEN, Osiel; a.k.a. CARDENAS GUILLEN, Oziel; a.k.a. CARDENAS GULLEN, Osiel; a.k.a. CARDENAS TUILLEN, Osiel; a.k.a. SALINA AGUILAR, Jorge; a.k.a. SALINAS AGUILAR, Jorge) DOB 18 May 1967; POB Mexico (individual) [SDNTK]

CARDENAS GUILLEN, Ociel (a.k.a. CARDENAS CASTILLO, Osiel; a.k.a. CARDENAS GILLEN, Osiel; a.k.a. CARDENAS GUILLEN, Oscar; a.k.a. CARDENAS GUILLEN, Osiel; a.k.a. CARDENAS GUILLEN, Oziel; a.k.a. CARDENAS GULLEN, Osiel; a.k.a. CARDENAS TUILLEN, Osiel; a.k.a. SALINA AGUILAR, Jorge; a.k.a. SALINAS AGUILAR, Jorge) DOB 18 May 1967; POB Mexico (individual) [SDNTK]

CARDENAS GUILLEN, Oscar (a.k.a. CARDENAS CASTILLO, Osiel; a.k.a. CARDENAS GILLEN, Osiel; a.k.a. CARDENAS GUILLEN, Ociel; a.k.a. CARDENAS GUILLEN, Osiel; a.k.a. CARDENAS GUILLEN, Oziel; a.k.a. CARDENAS GULLEN, Osiel; a.k.a. CARDENAS TUILLEN, Osiel; a.k.a. SALINA AGUILAR, Jorge; a.k.a. SALINAS AGUILAR, Jorge) DOB 18 May 1967; POB Mexico (individual) [SDNTK]

CARDENAS GUILLEN, Osiel (a.k.a. CARDENAS CASTILLO, Osiel; a.k.a. CARDENAS GILLEN, Osiel; a.k.a. CARDENAS GUILLEN, Ociel; a.k.a. CARDENAS GUILLEN, Oscar; a.k.a. CARDENAS GUILLEN, Oziel; a.k.a. CARDENAS GULLEN, Osiel; a.k.a. CARDENAS TUILLEN, Osiel; a.k.a. SALINA AGUILAR, Jorge; a.k.a. SALINAS AGUILAR, Jorge) DOB 18 May 1967; POB Mexico (individual) [SDNTK]

CARDENAS GUILLEN, Oziel (a.k.a. CARDENAS CASTILLO, Osiel; a.k.a. CARDENAS GILLEN, Osiel; a.k.a. CARDENAS GUILLEN, Ociel; a.k.a. CARDENAS GUILLEN, Oscar; a.k.a. CARDENAS GUILLEN, Osiel; a.k.a. CARDENAS GULLEN, Osiel; a.k.a. CARDENAS TUILLEN, Osiel; a.k.a. SALINA AGUILAR, Jorge; a.k.a. SALINAS AGUILAR, Jorge) DOB 18 May 1967; POB Mexico (individual) [SDNTK]

CARDENAS GULLEN, Osiel (a.k.a. CARDENAS CASTILLO, Osiel; a.k.a. CARDENAS GILLEN, Osiel; a.k.a. CARDENAS GUILLEN, Ociel; a.k.a. CARDENAS GUILLEN, Oscar; a.k.a. CARDENAS GUILLEN, Osiel; a.k.a. CARDENAS GUILLEN, Oziel; a.k.a. CARDENAS TUILLEN, Osiel; a.k.a. SALINA AGUILAR, Jorge; a.k.a. SALINAS AGUILAR, Jorge) DOB 18 May 1967; POB Mexico (individual) [SDNTK]

CARDENAS TUILLEN, Osiel (a.k.a. CARDENAS CASTILLO, Osiel; a.k.a. CARDENAS GILLEN, Osiel; a.k.a. CARDENAS GUILLEN, Ociel; a.k.a. CARDENAS GUILLEN, Oscar; a.k.a. CARDENAS GUILLEN, Osiel; a.k.a. CARDENAS GUILLEN, Oziel; a.k.a. CARDENAS GULLEN, Osiel; a.k.a. ; a.k.a. SALINA AGUILAR, Jorge; a.k.a. SALINAS AGUILAR, Jorge) DOB 18 May 1967; POB Mexico (individual) [SDNTK]

CARO QUINTERO, Miguel Angel; DOB 9 Mar 1963; POB Mexico (individual) [SDNTK]

CARO RODRIGUEZ, Gilberto (a.k.a. AREGON, Max; a.k.a. ; a.k.a. GUIERREZ LOERA, Jose Luis; a.k.a. GUMAN LOERAL, Joaquin; a.k.a. GUZMAN, Achivaldo; a.k.a. GUZMAN, Archibaldo; a.k.a. GUZMAN, Aureliano; a.k.a. GUZMAN, Chapo; a.k.a. GUZMAN FERNANDEZ, Joaquin; a.k.a. GUZMAN, Joaquin Chapo; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. ORTEGA, Miguel; a.k.a. OSUNA, Gilberto; a.k.a. RAMIREZ, Joise Luis; a.k.a. RAMOX PEREZ, Jorge) DOB 25 Dec 1954; POB Mexico (individual) [SDNTK]

CASTELLANOS ALVAREZ TOSTADO, Juan Jose (a.k.a. ALVAREZ TOSTADO, Jose; a.k.a. GONZALEZ, Jose); DOB 27 Aug 1955; POB Mexico (individual) [SDNTK]

CHANG, Ping Yun (a.k.a KHUN, Saeng); DOB 7 Jan 1940; POB Burma (individual) [SDNTK]

GIL, Josef (a.k.a. GILBERT, Joseph; a.k.a. GILBOA, Joseph; a.k.a. GILBOA, Joseph Papzian; a.k.a. GILBOA, Yosef); DOB 8 Apr 1943; POB Israel (individual) [SDNTK]

GILBERT, Joseph (a.k.a. GIL, Josef; a.k.a. GILBOA, Joseph; a.k.a. GILBOA, Joseph Papzian; a.k.a. GILBOA, Yosef); DOB 8 Apr 1943; POB Israel (individual) [SDNTK]

GILBOA, Joseph (a.k.a. GIL, Josef; a.k.a. GILBERT, Joseph; a.k.a. GILBOA, Joseph Papzian; a.k.a. GILBOA, Yosef); DOB 8 Apr 1943; POB Israel (individual) [SDNTK]

GILBOA, Joseph Papzian (a.k.a. GIL, Josef; a.k.a. GILBERT, Joseph; a.k.a. GILBOA, Joseph; a.k.a. GILBOA, Yosef); DOB 8 Apr 1943; POB Israel (individual) [SDNTK]

GILBOA, Yosef (a.k.a. GIL, Josef; a.k.a. GILBERT, Joseph; a.k.a. GILBOA, Joseph; a.k.a. GILBOA, Joseph Papzian); DOB 8 Apr 1943; POB Israel (individual) [SDNTK]

GONZALEZ, Jose (a.k.a. ALVAREZ TOSTADO, Jose; a.k.a. CASTELLANOS ALVAREZ TOSTADO, Juan Jose); DOB 27 Aug 1955; POB Mexico (individual) [SDNTK]

GONZALEZ QUIONES, Jorge (a.k.a. ALCIDES MAGANA, Ramon; a.k.a. ALCIDES MAGANE, Ramon; a.k.a. ALCIDES MAYENA, Ramon; a.k.a. ALCIDEZ MAGANA, Ramon; a.k.a. MAGANA ALCIDES, Ramon; a.k.a. MAGANA, Jorge; a.k.a. MAGNA ALCIDEDES, Ramon; a.k.a. MATA, Alcides; a.k.a. RAMON MAGANA, Alcedis; a.k.a. RAMON MAGANA, Alcides; a.k.a. ROMERO, Antonio); DOB 4 Sep 1957 (individual) [SDNTK]

GUIERREZ LOERA, Jose Luis (a.k.a. AREGON, Max; a.k.a. CARO RODRIGUEZ, Gilberto; a.k.a. GUMAN LOERAL, Joaquin; a.k.a. GUZMAN, Achivaldo; a.k.a. GUZMAN, Archibaldo; a.k.a. GUZMAN, Aureliano; a.k.a. GUZMAN, Chapo; a.k.a. GUZMAN FERNANDEZ, Joaquin; a.k.a. GUZMAN, Joaquin Chapo; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. ORTEGA, Miguel; a.k.a. OSUNA, Gilberto; a.k.a. RAMIREZ, Joise Luis; a.k.a. RAMOX PEREZ, Jorge) DOB 25 Dec 1954; POB Mexico (individual) [SDNTK]

GUMAN LOERAL, Joaquin (a.k.a. AREGON, Max; a.k.a. CARO RODRIGUEZ, Gilberto; a.k.a. GUIERREZ LOERA, Jose Luis; a.k.a. GUZMAN, Achivaldo; a.k.a. GUZMAN, Archibaldo; a.k.a. GUZMAN, Aureliano; a.k.a. GUZMAN, Chapo; a.k.a. GUZMAN FERNANDEZ, Joaquin; a.k.a. GUZMAN, Joaquin Chapo; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. ORTEGA, Miguel; a.k.a. OSUNA, Gilberto; a.k.a. RAMIREZ, Joise Luis; a.k.a. RAMOX PEREZ, Jorge) DOB 25 Dec 1954; POB Mexico (individual) [SDNTK]

GUZMAN, Achivaldo (a.k.a. AREGON, Max; a.k.a. CARO RODRIGUEZ, Gilberto; a.k.a. GUIERREZ LOERA, Jose Luis; a.k.a. GUMAN LOERAL, Joaquin; a.k.a. GUZMAN, Archibaldo; a.k.a. GUZMAN, Aureliano; a.k.a. GUZMAN, Chapo; a.k.a. GUZMAN FERNANDEZ, Joaquin; a.k.a. GUZMAN, Joaquin Chapo; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. ORTEGA, Miguel; a.k.a. OSUNA, Gilberto; a.k.a. RAMIREZ, Joise Luis; a.k.a. RAMOX PEREZ, Jorge) DOB 25 Dec 1954; POB Mexico (individual) [SDNTK]

GUZMAN, Archibaldo (a.k.a. AREGON, Max; a.k.a. CARO RODRIGUEZ, Gilberto; a.k.a. GUIERREZ LOERA, Jose Luis; a.k.a. GUMAN LOERAL, Joaquin; a.k.a. GUZMAN, Achivaldo; a.k.a. GUZMAN, Aureliano; a.k.a. GUZMAN, Chapo; a.k.a. GUZMAN FERNANDEZ, Joaquin; a.k.a. GUZMAN, Joaquin Chapo; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. ORTEGA, Miguel; a.k.a. OSUNA, Gilberto; a.k.a. RAMIREZ, Joise Luis; a.k.a. RAMOX PEREZ, Jorge) DOB 25 Dec 1954; POB Mexico (individual) [SDNTK]

GUZMAN, Aureliano (a.k.a. AREGON, Max; a.k.a. CARO RODRIGUEZ, Gilberto; a.k.a. GUIERREZ LOERA, Jose Luis; a.k.a. GUMAN LOERAL, Joaquin; a.k.a. GUZMAN, Achivaldo; a.k.a. GUZMAN, Archibaldo; a.k.a. GUZMAN, Chapo; a.k.a. GUZMAN FERNANDEZ, Joaquin; a.k.a. GUZMAN, Joaquin Chapo; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. ORTEGA, Miguel; a.k.a. OSUNA, Gilberto; a.k.a. RAMIREZ, Joise Luis; a.k.a. RAMOX PEREZ, Jorge) DOB 25 Dec 1954; POB Mexico (individual) [SDNTK]

GUZMAN, Chapo (a.k.a. AREGON, Max; a.k.a. CARO RODRIGUEZ, Gilberto; a.k.a. GUIERREZ LOERA, Jose Luis; a.k.a. GUMAN LOERAL, Joaquin; a.k.a. GUZMAN, Achivaldo; a.k.a. GUZMAN, Archibaldo; a.k.a. GUZMAN, Aureliano; a.k.a. GUZMAN FERNANDEZ, Joaquin; a.k.a. GUZMAN, Joaquin Chapo; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. ORTEGA, Miguel; a.k.a. OSUNA, Gilberto; a.k.a. RAMIREZ, Joise Luis; a.k.a. RAMOX PEREZ, Jorge) DOB 25 Dec 1954; POB Mexico (individual) [SDNTK]

GUZMAN FERNANDEZ, Joaquin (a.k.a. AREGON, Max; a.k.a. CARO RODRIGUEZ, Gilberto; a.k.a. GUIERREZ LOERA, Jose Luis; a.k.a. GUMAN LOERAL, Joaquin; a.k.a. GUZMAN, Achivaldo; a.k.a. GUZMAN, Archibaldo; a.k.a. GUZMAN, Aureliano; a.k.a. GUZMAN, Chapo; a.k.a. GUZMAN, Joaquin Chapo; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. ORTEGA, Miguel; a.k.a. OSUNA, Gilberto; a.k.a. RAMIREZ, Joise Luis; a.k.a. RAMOX PEREZ, Jorge) DOB 25 Dec 1954; POB Mexico (individual) [SDNTK]

GUZMAN, Joaquin Chapo (a.k.a. AREGON, Max; a.k.a. CARO RODRIGUEZ, Gilberto; a.k.a. GUIERREZ LOERA, Jose Luis; a.k.a. GUMAN LOERAL, Joaquin; a.k.a. GUZMAN, Achivaldo; a.k.a. GUZMAN, Archibaldo; a.k.a. GUZMAN, Aureliano; a.k.a. GUZMAN, Chapo; a.k.a. GUZMAN FERNANDEZ, Joaquin; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. ORTEGA, Miguel; a.k.a. OSUNA, Gilberto; a.k.a. RAMIREZ, Joise Luis; a.k.a. RAMOX PEREZ, Jorge) DOB 25 Dec 1954; POB Mexico (individual) [SDNTK]

GUZMAN LOEIA, Joaguin (a.k.a. AREGON, Max; a.k.a. CARO RODRIGUEZ, Gilberto; a.k.a. GUIERREZ LOERA, Jose Luis; a.k.a. GUMAN LOERAL, Joaquin; a.k.a. GUZMAN, Achivaldo; a.k.a. GUZMAN, Archibaldo; a.k.a. GUZMAN, Aureliano; a.k.a. GUZMAN, Chapo; a.k.a. GUZMAN FERNANDEZ, Joaquin; a.k.a. GUZMAN, Joaquin Chapo; a.k.a. GUZMAN LOERA, Joaquin; a.k.a. GUZMAN LOESA, Joaquin; a.k.a. GUZMAN LOREA, Chapo; a.k.a. GUZMAN PADILLA, Joaquin; a.k.a. ORTEGA, Miguel; a.k.a. OSUNA, Gilberto; a.k.a. RAMIREZ, Joise Luis; a.k.a. RAMOX PEREZ, Jorge) DOB 25 Dec 1954; POB Mexico (individual) [SDNTK]

GUZMAN LOERA, Joaquin (a.k.a. AREGON, Max; a.k.a. CARO RODRIGUEZ, Gilberto; a.k.a. GUIERREZ LOERA, Jose Luis; a.k.a. GUMAN LOERAL, Joaquin; a.k.a. GUZMAN, Achivaldo; a.k.a. GUZMAN, Archibaldo; a.k.a. GUZMAN, Aureliano; a.k.a. GUZMAN, Chapo; a.k.a. GUZMAN FERNANDEZ, Joaquin; a.k.a. GUZMAN, Joaquin Chapo; a.k.a.GUZMAN LOEIA, Joaguin; a.k.a. GUZMAN LOESA, Joaquin; a.k.a. GUZMAN LOREA, Chapo; a.k.a. GUZMAN PADILLA, Joaquin; a.k.a. ORTEGA, Miguel; a.k.a. OSUNA, Gilberto; a.k.a. RAMIREZ, Joise Luis; a.k.a. RAMOX PEREZ, Jorge) DOB 25 Dec 1954; POB Mexico (individual) [SDNTK]

GUZMAN LOESA, Joaquin (a.k.a. AREGON, Max; a.k.a. CARO RODRIGUEZ, Gilberto; a.k.a. GUIERREZ LOERA, Jose Luis; a.k.a. GUMAN LOERAL, Joaquin; a.k.a. GUZMAN, Achivaldo; a.k.a. GUZMAN, Archibaldo; a.k.a. GUZMAN, Aureliano; a.k.a. GUZMAN, Chapo; a.k.a. GUZMAN FERNANDEZ, Joaquin; a.k.a. GUZMAN, Joaquin Chapo; a.k.a. GUZMAN LOEIA, Joaguin; a.k.a. GUZMAN LOERA, Joaquin; a.k.a. GUZMAN LOREA, Chapo; a.k.a. GUZMAN PADILLA, Joaquin; a.k.a. ORTEGA, Miguel; a.k.a. OSUNA, Gilberto; a.k.a. RAMIREZ, Joise Luis; a.k.a. RAMOX PEREZ, Jorge) DOB 25 Dec 1954; POB Mexico (individual) [SDNTK]

GUZMAN LOREA, Chapo (a.k.a. AREGON, Max; a.k.a. CARO RODRIGUEZ, Gilberto; a.k.a. GUIERREZ LOERA, Jose Luis; a.k.a. GUMAN LOERAL, Joaquin; a.k.a. GUZMAN, Achivaldo; a.k.a. GUZMAN, Archibaldo; a.k.a. GUZMAN, Aureliano; a.k.a. GUZMAN, Chapo; a.k.a. GUZMAN FERNANDEZ, Joaquin; a.k.a. GUZMAN, Joaquin Chapo; a.k.a. GUZMAN LOEIA, Joaguin; a.k.a. GUZMAN LOERA, Joaquin; a.k.a. GUZMAN LOESA, Joaquin; a.k.a. GUZMAN PADILLA, Joaquin; a.k.a. ORTEGA, Miguel; a.k.a. OSUNA, Gilberto; a.k.a. RAMIREZ, Joise Luis; a.k.a. RAMOX PEREZ, Jorge) DOB 25 Dec 1954; POB Mexico (individual) [SDNTK]

GUZMAN PADILLA, Joaquin (a.k.a. AREGON, Max; a.k.a. CARO RODRIGUEZ, Gilberto; a.k.a. GUIERREZ LOERA, Jose Luis; a.k.a. GUMAN LOERAL, Joaquin; a.k.a. GUZMAN, Achivaldo; a.k.a. GUZMAN, Archibaldo; a.k.a. GUZMAN, Aureliano; a.k.a. GUZMAN, Chapo; a.k.a. GUZMAN FERNANDEZ, Joaquin; a.k.a. GUZMAN, Joaquin Chapo; a.k.a. GUZMAN LOEIA, Joaguin; a.k.a. GUZMAN LOERA, Joaquin; a.k.a. GUZMAN LOESA, Joaquin; a.k.a. GUZMAN LOREA, Chapo; a.k.a. ORTEGA, Miguel; a.k.a. OSUNA, Gilberto; a.k.a. RAMIREZ, Joise Luis; a.k.a. RAMOX PEREZ, Jorge) DOB 25 Dec 1954; POB Mexico (individual) [SDNTK]

HAMEIAH, Jamel (a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMEIAH, Jamil (a.k.a. HAMEIAH, Jamel; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMEIAH, Mamil (a.k.a. HAMEIAH, Jamel; a.k.a. HAMEIAH, Jamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMEIEH, Jamil (a.k.a. HAMEIAH, Jamel; a.k.a. HAMEIAH, Jamil; a.k.a. HAMEIAH, Mamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMEIH, Jamill (a.k.a. HAMEIAH, Jamel; a.k.a. HAMEIAH, Jamil; a.k.a. HAMEIAH, Mamil; a.k.a. HAMEIEH, Jamil; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMER, Jamil (a.k.a. HAMEIAH, Jamel; a.k.a. HAMEIAH, Jamil; a.k.a. HAMEIAH, Mamil; a.k.a. HAMEIEH, Jamil; a.k.a. HAMEIH, Jamill; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIAEH, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIAH, Jamiel (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIE, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIE, Jamil Abdulkarim (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIE, Jamile (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIEAH, Jamiel (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIEAH, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIEH, Jamal (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIEH, Jamiel (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIEH, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIEH, Mamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIEL, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIEYE, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIEYYEH, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIL, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIYA, Abdul Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIYE, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYYAH, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIYYAH, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYEH, Jamil; a.k.a. HAMYH, Jamil; a.k.a. KARIM, Jamil Abdul; a.k.a. NAZIM, Abou; a.k.a. NEZAM, Abu; a.k.a. NIZAM, Abou); DOB Sep 1938 (individual) [SDNTK]

HAMIYYEH, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMYH, Jamil; a.k.a. KARIM, Jamil Abdul; a.k.a. NAZIM, Abou; a.k.a. NEZAM, Abu; a.k.a. NIZAM, Abou); DOB Sep 1938 (individual) [SDNTK]

HAMYH, Jamil (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. KARIM, Jamil Abdul; a.k.a. NAZIM, Abou; a.k.a. NEZAM, Abu; a.k.a. NIZAM, Abou); DOB Sep 1938 (individual) [SDNTK]

HIGUERA GUERRERO, Ismael; DOB 17 Mar 1961; POB Mexico (individual) [SDNTK]

KARIM, Jamil Abdul (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. NAZIM, Abou; a.k.a. NEZAM, Abu; a.k.a. NIZAM, Abou); DOB Sep 1938 (individual) [SDNTK]

KHAN, Abdullah (a.k.a. AFGHAN, Shear; a.k.a. AFGHAN, Sher; a.k.a. AFGHAN, Shir; a.k.a. AZIZ, Mohammad) DOB 1962; alt. DOB 1959; POB Pakistan (individual) [SDNTK]

KHAN, Ali (a.k.a. KHAN, Nafir Ali; a.k.a. KHAN, Nasir Ali; a.k.a. KHAN, Nazir Ali; a.k.a. KHAN, Nisan Ali; a.k.a. KHAN, Nisar Ali; a.k.a. NASIR, Ali Khan; a.k.a. NASIR, Khan Ali); DOB 1 Oct 1955; POB Pakistan (individual) [SDNTK]

KHAN, Nafir Ali (a.k.a. KHAN, Ali; a.k.a. KHAN, Nasir Ali; a.k.a. KHAN, Nazir Ali; a.k.a. KHAN, Nisan Ali; a.k.a. KHAN, Nisar Ali; a.k.a. NASIR, Ali Khan; a.k.a. NASIR, Khan Ali); DOB 1 Oct 1955; POB Pakistan (individual) [SDNTK]

KHAN, Nasir Ali (a.k.a. KHAN, Ali; a.k.a. KHAN, Nafir Ali; a.k.a. KHAN, Nazir Ali; a.k.a. KHAN, Nisan Ali; a.k.a. KHAN, Nisar Ali; a.k.a. NASIR, Ali Khan; a.k.a. NASIR, Khan Ali); DOB 1 Oct 1955; POB Pakistan (individual) [SDNTK]

KHAN, Nazir Ali (a.k.a. KHAN, Ali; a.k.a. KHAN, Nafir Ali; a.k.a. KHAN, Nasir Ali; a.k.a. KHAN, Nisan Ali; a.k.a. KHAN, Nisar Ali; a.k.a. NASIR, Ali Khan; a.k.a. NASIR, Khan Ali); DOB 1 Oct 1955; POB Pakistan (individual) [SDNTK]

KHAN, Nisan Ali (a.k.a. KHAN, Ali; a.k.a. KHAN, Nafir Ali; a.k.a. KHAN, Nasir Ali; a.k.a. KHAN, Nazir Ali; a.k.a. KHAN, Nisar Ali; a.k.a. NASIR, Ali Khan; a.k.a. NASIR, Khan Ali); DOB 1 Oct 1955; POB Pakistan (individual) [SDNTK]

KHAN, Nisar Ali (a.k.a. KHAN, Ali; a.k.a. KHAN, Nafir Ali; a.k.a. KHAN, Nasir Ali; a.k.a. KHAN, Nazir Ali; a.k.a. KHAN, Nisan Ali; a.k.a. NASIR, Ali Khan; a.k.a. NASIR, Khan Ali); DOB 1 Oct 1955; POB Pakistan (individual) [SDNTK]

KHUN, Saeng (a.k.a CHANG, Ping Yun); DOB 7 Jan 1940; POB Burma (individual) [SDNTK]

MACHERBE, Oscar (a.k.a. BECERRA, Martin; a.k.a. BECERRA MIRELES, Martin; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 1964; POB Mexico (individual) [SDNTK]

MAGANA ALCIDES, Ramon (a.k.a. ALCIDES MAGANA, Ramon; a.k.a. ALCIDES MAGANE, Ramon; a.k.a. ALCIDES MAYENA, Ramon; a.k.a. ALCIDEZ MAGANA, Ramon; a.k.a. GONZALEZ QUIONES, Jorge; a.k.a. MAGANA, Jorge; a.k.a. MAGNA ALCIDEDES, Ramon; a.k.a. MATA, Alcides; a.k.a. RAMON MAGANA, Alcedis; a.k.a. RAMON MAGANA, Alcides; a.k.a. ROMERO, Antonio); DOB 4 Sep 1957 (individual) [SDNTK]

MAGANA, Jorge (a.k.a. ALCIDES MAGANA, Ramon; a.k.a. ALCIDES MAGANE, Ramon; a.k.a. ALCIDES MAYENA, Ramon; a.k.a. ALCIDEZ MAGANA, Ramon; a.k.a. GONZALEZ QUIONES, Jorge; a.k.a. MAGANA ALCIDES, Ramon; a.k.a. MAGNA ALCIDEDES, Ramon; a.k.a. MATA, Alcides; a.k.a. RAMON MAGANA, Alcedis; a.k.a. RAMON MAGANA, Alcides; a.k.a. ROMERO, Antonio); DOB 4 Sep 1957 (individual) [SDNTK]

MAGNA ALCIDEDES, Ramon (a.k.a. ALCIDES MAGANA, Ramon; a.k.a. ALCIDES MAGANE, Ramon; a.k.a. ALCIDES MAYENA, Ramon; a.k.a. ALCIDEZ MAGANA, Ramon; a.k.a. GONZALEZ QUIONES, Jorge; a.k.a. MAGANA ALCIDES, Ramon; a.k.a. MAGANA, Jorge; a.k.a. MATA, Alcides; a.k.a. RAMON MAGANA, Alcedis; a.k.a. RAMON MAGANA, Alcides; a.k.a. ROMERO, Antonio); DOB 4 Sep 1957 (individual) [SDNTK]

MAHERBE, Oscar (a.k.a. BECERRA, Martin; a.k.a. BECERRA MIRELES, Martin; a.k.a. MACHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 1964; POB Mexico (individual) [SDNTK]

MAHLERBE, Oscar (a.k.a. BECERRA, Martin; a.k.a. BECERRA MIRELES, Martin; a.k.a. MACHERBE, Oscar; a.k.a. MAHERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 1964; POB Mexico (individual) [SDNTK]

MAHLERBE, Polo (a.k.a. BECERRA, Martin; a.k.a. BECERRA MIRELES, Martin; a.k.a. MACHERBE, Oscar; a.k.a. MAHERBE, Oscar; a.k.a. MAHLERBE, Oscar; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 1964; POB Mexico (individual) [SDNTK]

MALARBE, Oscar (a.k.a. BECERRA, Martin; a.k.a. BECERRA MIRELES, Martin; a.k.a. MACHERBE, Oscar; a.k.a. MAHERBE, Oscar; a.k.a. MAHLERBE, Oscar; a.k.a. MAHLERBE, Polo; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 1964; POB Mexico (individual) [SDNTK]

MALERBE, Oscar (a.k.a. BECERRA, Martin; a.k.a. BECERRA MIRELES, Martin; a.k.a. MACHERBE, Oscar; a.k.a. MAHERBE, Oscar; a.k.a. MAHLERBE, Oscar; a.k.a. MAHLERBE, Polo; a.k.a. MALARBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 1964; POB Mexico (individual) [SDNTK]

MALERHBE DE LEON, Oscar (a.k.a. BECERRA, Martin; a.k.a. BECERRA MIRELES, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 1964; POB Mexico (individual) [SDNTK]

MALERVA, Oscar (a.k.a. BECERRA, Martin; a.k.a. BECERRA MIRELES, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 1964; POB Mexico (individual) [SDNTK]

MALHARBE DE LEON, Oscar (a.k.a. BECERRA, Martin; a.k.a. BECERRA MIRELES, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 1964; POB Mexico (individual) [SDNTK]

MALHERBE DE LEON, Oscar (a.k.a. BECERRA, Martin; a.k.a. BECERRA MIRELES, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DELEON, Oscar; a.k.a. MALMERBE, Oscar; a.k.a. MELARBE, Oscar; a.k.a. NALHERBE, Oscar; a.k.a. QALHARBE DE LEON, Oscar; a.k.a. VARGAS, Jorge); DOB 10 Jan 1964; POB Mexico (individual) [SDNTK]

MALHERBE DELEON, Oscar (a.k.a. BECERRA, Martin; a.k.a. BECERRA MIRELES, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALMERBE, Oscar; a.k.a. MELARBE, Oscar; a.k.a. NALHERBE, Oscar; a.k.a. QALHARBE DE LEON, Oscar; a.k.a. VARGAS, Jorge); DOB 10 Jan 1964; POB Mexico (individual) [SDNTK]

MALMERBE, Oscar (a.k.a. BECERRA, Martin; a.k.a. BECERRA MIRELES, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MELARBE, Oscar; a.k.a. NALHERBE, Oscar; a.k.a. QALHARBE DE LEON, Oscar; a.k.a. VARGAS, Jorge); DOB 10 Jan 1964; POB Mexico (individual) [SDNTK]

MATA, Alcides (a.k.a. ALCIDES MAGANA, Ramon; a.k.a. ALCIDES MAGANE, Ramon; a.k.a. ALCIDES MAYENA, Ramon; a.k.a. ALCIDEZ MAGANA, Ramon; a.k.a. GONZALEZ QUIONES, Jorge; a.k.a. MAGANA ALCIDES, Ramon; a.k.a. MAGANA, Jorge; a.k.a. MAGNA ALCIDEDES, Ramon; a.k.a. RAMON MAGANA, Alcedis; a.k.a. RAMON MAGANA, Alcides; a.k.a. ROMERO, Antonio); DOB 4 Sep 1957 (individual) [SDNTK]

MELARBE, Oscar (a.k.a. BECERRA, Martin; a.k.a. BECERRA MIRELES, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a.MALHERBE DE LEON, Oscar; a.k.a. MALHERBE DELEON, Oscar; a.k.a. MALMERBE, Oscar; a.k.a. NALHERBE, Oscar; a.k.a. QALHARBE DE LEON, Oscar; a.k.a. VARGAS, Jorge); DOB 10 Jan 1964; POB Mexico (individual) [SDNTK]

NALHERBE, Oscar (a.k.a. BECERRA, Martin; a.k.a. BECERRA MIRELES, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. QALHARBE DE LEON, Oscar; a.k.a. VARGAS, Jorge); DOB 10 Jan 1964; POB Mexico (individual) [SDNTK]

NASIR, Ali Khan (a.k.a. KHAN, Ali; a.k.a. KHAN, Nafir Ali; a.k.a. KHAN, Nasir Ali; a.k.a. KHAN, Nazir Ali; a.k.a. KHAN, Nisan Ali; a.k.a. KHAN, Nisar Ali; a.k.a. NASIR, Khan Ali); DOB 1 Oct 1955; POB Pakistan (individual) [SDNTK]

NASIR, Khan Ali (a.k.a. KHAN, Ali; a.k.a. KHAN, Nafir Ali; a.k.a. KHAN, Nasir Ali; a.k.a. KHAN, Nazir Ali; a.k.a. KHAN, Nisan Ali; a.k.a. KHAN, Nisar Ali; a.k.a. NASIR, Ali Khan); DOB 1 Oct 1955; POB Pakistan (individual) [SDNTK]

NAZIM, Abou (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NEZAM, Abu; a.k.a. NIZAM, Abou); DOB Sep 1938 (individual) [SDNTK]

NEZAM, Abu (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NIZAM, Abou); DOB Sep 1938 (individual) [SDNTK]

NIZAM, Abou (a.k.a. HAMEIAH, Jamel; a.k.a. HAMEIAH, Jamil; a.k.a. HAMEIAH, Mamil; a.k.a. HAMEIEH, Jamil; a.k.a. HAMEIH, Jamill; a.k.a. HAMER, Jamil; a.k.a. HAMIAEH, Jamil; a.k.a. HAMIAH, Jamiel; a.k.a. HAMIE, Jamil Abdulkarim; a.k.a. HAMIE, Jamil; a.k.a. HAMIE, Jamile; a.k.a. HAMIEAH, Jamiel; a.k.a. HAMIEAH, Jamil; a.k.a. HAMIEH, Jamal; a.k.a. HAMIEH, Jamiel; a.k.a. HAMIEH, Jamil; a.k.a. HAMIEH, Mamil; a.k.a. HAMIEL, Jamil; a.k.a. HAMIEYE, Jamil; a.k.a. HAMIEYYEH, Jamil; a.k.a. HAMIL, Jamil; a.k.a. HAMIYA, Abdul Jamil; a.k.a. HAMIYE, Jamil; a.k.a. HAMIYYAH, Jamil; a.k.a. HAMIYYEH, Jamil; a.k.a. HAMYH, Jamil; a.k.a. KARIM, Jamil Abdul; a.k.a. NAZIM, Abou; a.k.a. NEZAM, Abu); DOB Sep 1938 (individual) [SDNTK]

ORTEGA, Miguel (a.k.a. AREGON, Max; a.k.a. CARO RODRIGUEZ, Gilberto; a.k.a. GUIERREZ LOERA, Jose Luis; a.k.a. GUMAN LOERAL, Joaquin; a.k.a. GUZMAN, Achivaldo; a.k.a. GUZMAN, Archibaldo; a.k.a. GUZMAN, Aureliano; a.k.a. GUZMAN, Chapo; a.k.a. GUZMAN FERNANDEZ, Joaquin; a.k.a. GUZMAN, Joaquin Chapo; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. OSUNA, Gilberto; a.k.a. RAMIREZ, Joise Luis; a.k.a. RAMOX PEREZ, Jorge) DOB 25 Dec 1954; POB Mexico (individual) [SDNTK]

OSUNA, Gilberto (a.k.a. AREGON, Max; a.k.a. CARO RODRIGUEZ, Gilberto; a.k.a. GUIERREZ LOERA, Jose Luis; a.k.a. GUMAN LOERAL, Joaquin; a.k.a. GUZMAN, Achivaldo; a.k.a. GUZMAN, Archibaldo; a.k.a. GUZMAN, Aureliano; a.k.a. GUZMAN, Chapo; a.k.a. GUZMAN FERNANDEZ, Joaquin; a.k.a. GUZMAN, Joaquin Chapo; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. ORTEGA, Miguel; a.k.a. RAMIREZ, Joise Luis; a.k.a. RAMOX PEREZ, Jorge) DOB 25 Dec 1954; POB Mexico (individual) [SDNTK]

QALHARBE DE LEON, Oscar (a.k.a. BECERRA, Martin; a.k.a. BECERRA MIRELES, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. VARGAS, Jorge); DOB 10 Jan 1964; POB Mexico (individual) [SDNTK]

RAMIREZ, Joise Luis (a.k.a. AREGON, Max; a.k.a. CARO RODRIGUEZ, Gilberto; a.k.a. GUIERREZ LOERA, Jose Luis; a.k.a. GUMAN LOERAL, Joaquin; a.k.a. GUZMAN, Achivaldo; a.k.a. GUZMAN, Archibaldo; a.k.a. GUZMAN, Aureliano; a.k.a. GUZMAN, Chapo; a.k.a. GUZMAN FERNANDEZ, Joaquin; a.k.a. GUZMAN, Joaquin Chapo; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. ORTEGA, Miguel; a.k.a. OSUNA, Gilberto; a.k.a. RAMOX PEREZ, Jorge) DOB 25 Dec 1954; POB Mexico (individual) [SDNTK]

RAMON MAGANA, Alcedis (a.k.a. ALCIDES MAGANA, Ramon; a.k.a. ALCIDES MAGANE, Ramon; a.k.a. ALCIDES MAYENA, Ramon; a.k.a. ALCIDEZ MAGANA, Ramon; a.k.a. GONZALEZ QUIONES, Jorge; a.k.a. MAGANA ALCIDES, Ramon; a.k.a. MAGANA, Jorge; a.k.a. MAGNA ALCIDEDES, Ramon; a.k.a. MATA, Alcides; a.k.a. RAMON MAGANA, Alcides; a.k.a. ROMERO, Antonio); DOB 4 Sep 1957 (individual) [SDNTK]

RAMON MAGANA, Alcides (a.k.a. ALCIDES MAGANA, Ramon; a.k.a. ALCIDES MAGANE, Ramon; a.k.a. ALCIDES MAYENA, Ramon; a.k.a. ALCIDEZ MAGANA, Ramon; a.k.a. GONZALEZ QUIONES, Jorge; a.k.a. MAGANA ALCIDES, Ramon; a.k.a. MAGANA, Jorge; a.k.a. MAGNA ALCIDEDES, Ramon; a.k.a. MATA, Alcides; a.k.a. RAMON MAGANA, Alcedis; a.k.a. ROMERO, Antonio); DOB 4 Sep 1957 (individual) [SDNTK]

RAMOX PEREZ, Jorge (a.k.a. AREGON, Max; a.k.a. CARO RODRIGUEZ, Gilberto; a.k.a. GUIERREZ LOERA, Jose Luis; a.k.a. GUMAN LOERAL, Joaquin; a.k.a. GUZMAN, Achivaldo; a.k.a. GUZMAN, Archibaldo; a.k.a. GUZMAN, Aureliano; a.k.a. GUZMAN, Chapo; a.k.a. GUZMAN FERNANDEZ, Joaquin; a.k.a. GUZMAN, Joaquin Chapo; a.k.a. GUZMAN LOEIA, Joaguin; a.k.a. GUZMAN LOERA, Joaquin; a.k.a. GUZMAN LOESA, Joaquin; a.k.a. GUZMAN LOREA, Chapo; a.k.a. GUZMAN PADILLA, Joaquin; a.k.a. ORTEGA, Miguel; a.k.a. OSUNA, Gilberto; a.k.a. RAMIREZ, Joise Luis) DOB 25 Dec 1954; POB Mexico (individual) [SDNTK]

ROMERO, Antonio (a.k.a. ALCIDES MAGANA, Ramon; a.k.a. ALCIDES MAGANE, Ramon; a.k.a. ALCIDES MAYENA, Ramon; a.k.a. ALCIDEZ MAGANA, Ramon; a.k.a. GONZALEZ QUIONES, Jorge; a.k.a. MAGANA ALCIDES, Ramon; a.k.a. MAGANA, Jorge; a.k.a. MAGNA ALCIDEDES, Ramon; a.k.a. MATA, Alcides; a.k.a. RAMON MAGANA, Alcedis; a.k.a. RAMON MAGANA, Alcides); DOB 4 Sep 1957 (individual) [SDNTK]

SALINA AGUILAR, Jorge (a.k.a. CARDENAS CASTILLO, Osiel; a.k.a. CARDENAS GILLEN, Osiel; a.k.a. CARDENAS GUILLEN, Ociel; a.k.a. CARDENAS GUILLEN, Oscar; a.k.a. CARDENAS GUILLEN, Osiel; a.k.a. CARDENAS GUILLEN, Oziel; a.k.a. CARDENAS GULLEN, Osiel; a.k.a. CARDENAS TUILLEN, Osiel; a.k.a. SALINAS AGUILAR, Jorge) DOB 18 May 1967; POB Mexico (individual) [SDNTK]

SALINAS AGUILAR, Jorge (a.k.a. CARDENAS CASTILLO, Osiel; a.k.a. CARDENAS GILLEN, Osiel; a.k.a. CARDENAS GUILLEN, Ociel; a.k.a. CARDENAS GUILLEN, Oscar; a.k.a. CARDENAS GUILLEN, Osiel; a.k.a. CARDENAS GUILLEN, Oziel; a.k.a. CARDENAS GULLEN, Osiel; a.k.a. CARDENAS TUILLEN, Osiel; a.k.a. SALINA AGUILAR, Jorge) DOB 18 May 1967; POB Mexico (individual) [SDNTK]

VARGAS, Jorge (a.k.a. BECERRA, Martin; a.k.a. BECERRA MIRELES, Martin; a.k.a. MACHERBE, Oscar; a.k.a. MAHERBE, Oscar; a.k.a. MAHLERBE, Oscar; a.k.a. MAHLERBE, Polo; a.k.a. MALARBE, Oscar; a.k.a. MALERBE, Oscar; a.k.a. MALERHBE DE LEON, Oscar; a.k.a. MALERVA, Oscar; a.k.a. MALHARBE DE LEON, Oscar; a.k.a. MALHERBE DE LEON, Oscar; a.k.a. MALHERBE DELEON, Oscar; a.k.a. MALMERBE, Oscar; a.k.a. MELARBE, Oscar; a.k.a. NALHERBE, Oscar; a.k.a. QALHARBE DE LEON, Oscar); DOB 10 Jan 1964; POB Mexico (individual) [SDNTK]

3. Appendix A to 31 CFR chapter V is further amended by adding the following names and aliases of a foreign terrorist organization inserted in alphabetical order:

32 COUNTY SOVEREIGNTY COMMITTEE (a.k.a. 32 COUNTY SOVEREIGNTY MOVEMENT; a.k.a. IRISH REPUBLICAN PRISONERS WELFARE ASSOCIATION; a.k.a. REAL IRA; a.k.a. REAL IRISH REPUBLICAN ARMY; a.k.a. REAL OGLAIGH NA HEIREANN; a.k.a. RIRA) [FTO]

32 COUNTY SOVEREIGNTY MOVEMENT (a.k.a. 32 COUNTY SOVEREIGNTY COMMITTEE; a.k.a. IRISH REPUBLICAN PRISONERS WELFARE ASSOCIATION; REAL IRA; a.k.a. REAL IRISH REPUBLICAN ARMY; a.k.a. REAL OGLAIGH NA HEIREANN; a.k.a. RIRA) [FTO]

IRISH REPUBLICAN PRISONERS WELFARE ASSOCIATION (a.k.a. 32 COUNTY SOVEREIGNTY COMMITTEE; a.k.a. 32 COUNTY SOVEREIGNTY MOVEMENT; a.k.a. REAL IRA; a.k.a. REAL IRISH REPUBLICAN ARMY; a.k.a. REAL OGLAIGH NA HEIREANN; a.k.a. RIRA) [FTO]

REAL IRA (a.k.a. 32 COUNTY SOVEREIGNTY COMMITTEE; a.k.a. 32 COUNTY SOVEREIGNTY MOVEMENT; a.k.a. IRISH REPUBLICAN PRISONERS WELFARE ASSOCIATION; a.k.a. REAL IRISH REPUBLICAN ARMY; a.k.a. REAL OGLAIGH NA HEIREANN; a.k.a. RIRA) [FTO]

REAL IRISH REPUBLICAN ARMY (a.k.a. 32 COUNTY SOVEREIGNTY COMMITTEE; a.k.a. 32 COUNTY SOVEREIGNTY MOVEMENT; a.k.a. IRISH REPUBLICAN PRISONERS WELFARE ASSOCIATION; a.k.a. REAL IRA; a.k.a. REAL OGLAIGH NA HEIREANN; a.k.a. RIRA) [FTO]

REAL OGLAIGH NA HEIREANN (a.k.a. 32 COUNTY SOVEREIGNTY COMMITTEE; a.k.a. 32 COUNTY SOVEREIGNTY MOVEMENT; a.k.a. IRISH REPUBLICAN PRISONERS WELFARE ASSOCIATION; a.k.a. REAL IRA; a.k.a. REAL IRISH REPUBLICAN ARMY; a.k.a. RIRA) [FTO]

RIRA (a.k.a. 32 COUNTY SOVEREIGNTY COMMITTEE; a.k.a. 32 COUNTY SOVEREIGNTY MOVEMENT; a.k.a. IRISH REPUBLICAN PRISONERS WELFARE ASSOCIATION; a.k.a. REAL IRA; a.k.a. REAL IRISH REPUBLICAN ARMY; a.k.a. REAL OGLAIGH NA HEIREANN) [FTO]

4. Appendix A to 31 CFR chapter V is further amended by removing all entries with the designation “[FRYK]”.

5. Appendix A to 31 CFR chapter V is further amended by adding the following names of individuals identified in Executive Order 13192 inserted in alphabetical order:

ACIMOVIC, Slobodan, Assistant Director of Beogradska Banka (DOB 19 Sep 51) (individual) [FRYM]

ALBUNOVIC, Veljko, General Manager of Pozarevacka Banka AD (individual) [FRYM]

BALTOVSKI, Mira, General Manager for International Operations of Beogradska Banka (individual) [FRYM]

BANOVIC, Nenad, (ICTY indictee, Bosnian Serb) (individual) [FRYM] BANOVIC, Predrag, (ICTY indictee, Bosnian Serb) (individual) [FRYM]

BOROVNICA, Goran, (ICTY indictee, Bosnian Serb) (individual) [FRYM]

BOZOVIC, Radoman, ex-Managing Director of Genex (DOB 10 Jan 53) (individual) [FRYM]

BUDISIN, Radmila, General Manager, Legal, BB Browncourt Trading (DOB 3 Mar 44; POB Srobobran) (individual) [FRYM]

BULATOVIC, Momir, Ex-Prime Minister, Federal Republic of Yugoslavia (DOB 21 Sep 56) (individual) [FRYM]

CESIC, Ranko, (ICTY indictee, Bosnian Serb) (DOB 5 Sep 64; POB Drvar) (individual) [FRYM]

CVETANOVIC, Ninoslav, General Director, RUDARSKO; Executive of Bor Mining (DOB 1940) (individual) [FRYM]

DJAKOVIC, Milan, Director of NIS JUGOPETROL (DOB 5 Oct 37) (individual) [FRYM]

FUSTAR, Dragan, (ICTY indictee, Bosnian Serb) (DOB 28 Mar 56) (individual) [FRYM]

GAJIC-MILOSEVIC, Milica, daughter-in-law of Slobodan Milosevic (DOB 1970) (individual) [FRYM]

GALOVIC, Predrag, General Manager of Jugobanka AD; ex-Assistant Minister for the Economy, Federal Republic of Yugoslavia (individual) [FRYM]

GRUBAN, Momcilo, (ICTY indictee, Bosnian Serb) (DOB 19 Jun 61) (individual) [FRYM]

JANJIC, Stanisa, Director of JUMKO Holding; member of SPS Main Committee (DOB 10 Mar 48) (individual) [FRYM]

JANKOVIC, Gojko, (ICTY indictee, Bosnian Serb) (DOB 31 Oct 54) (individual) [FRYM]

JANKOVIC, Tomislav, President of Galenika Board (individual) [FRYM]

JOCIC, Vladislav, General Manager of Sabacka Banka AD (individual) [FRYM]

JOSIC, Milan, General Manager of Loznicka Banka AD (individual) [FRYM]

KARADZIC, Radovan, (ICTY indictee, Bosnian Serb) (DOB 19 Jun 45; POB Petnica, Montenegro) (individual) [FRYM]

KARIC, Palmira Bogoljub, Businessman; ex-Minister without Portfolio, Republic of Serbia (DOB 17 Jan 54; POB Pec, Kosovo) (individual) [FRYM]

KERTES, Mihail, Ex-Director of Customs, Federal Republic of Yugoslavia (DOB 29 Aug 47; POB Palanka, Vojvodina, Serbia) (individual) [FRYM]

KNEZEVIC, Dusan, (ICTY indictee, Bosnian Serb) (DOB 23 Jun 55; POB Orlovci) (individual) [FRYM]

LUKIC, Milan, (ICTY indictee, Bosnian Serb) (DOB 6 Sep 67; POB Foca, Bosnia-Herzegovina) (individual) [FRYM]

LUKIC, Sredoje, (ICTY indictee, Bosnian Serb) (DOB 5 Apr 61; POB Visegrad, Bosnia-Herzegovina) (individual) [FRYM]

MALJKOVIC, Nebojsa, Member of JUL Directorate; ex-Deputy Prime Minister, Federal Republic of Yugoslavia; ex-Minister for Cooperation, Federal Republic of Yugoslavia; President of Dunav Insurance (DOB 4 Sep 54) (individual) [FRYM]

MARINIC, Zoran, (ICTY indictee, Bosnian Serb) (DOB 6 Jun 63; POB Busovaca) (individual) [FRYM]

MARJANOVIC, Mirko, Ex-Prime Minister of Serbia (DOB 27 Jul 37; POB Knin, Croatia) (individual) [FRYM]

MARKOVIC, Mirjana, wife of Slobodan Milosevic (DOB 10 Jul 42) (individual) [FRYM]

MARKOVIC, Momir, Private Banker; ex-Deputy Governor of National Bank of Yugoslavia; Editor of Velika Srbija (individual) [FRYM]

MARKOVIC, Radomir, Chief of Intelligence; head of RDB (DOB 1946 or 1947) (individual) [FRYM]

MARKOVIC, Vladimir, Member of JUL; General Director of Merima Chemical (individual) [FRYM]

MARKOVIC, Zoran, Executive Director of Beogradska Banka (individual) [FRYM]

MARTIC, Milan, (ICTY indictee, Bosnian Serb) (DOB 18 Nov 54; POB Zagrovic) (individual) [FRYM]

MEJAKIC, Zeljko, (ICTY indictee, Bosnian Serb) (DOB 2 Aug 64; POB Petrov Gaj) (individual) [FRYM]

MILACIC, Borislav, Minister of Finance, Republic of Serbia (DOB 13 May 53) (individual) [FRYM]

MILANOVIC, Dafina, ex-President of Dafiment Bank (individual) [FRYM]

MILOSEVIC, Borislav, brother of Slobodan Milosevic (DOB 1936) (individual) [FRYM]

MILOSEVIC, Marija, daughter of Slobodan Milosevic (DOB 1965) (individual) [FRYM]

MILOSEVIC, Marko, son of Slobodan Milosevic (DOB 2 Jul 74) (individual) [FRYM]

MILOSEVIC, Milanka, sister-in-law of Slobodan Milosevic (individual) [FRYM]

MILOSEVIC, Slobodan, Ex-President of Federal Republic of Yugoslavia; (ICTY indictee) (DOB 20 Aug 41; POB Pozarevac, Serbia) (individual) [FRYM]

MILUTINOVIC, Milan, President, Republic of Serbia; (ICTY indictee) (DOB 19 Dec 42; POB Belgrade, Serbia) (individual) [FRYM]

MITROVIC, Borislav, Ex-Secretary General, President's Secretariat (individual) [FRYM]

MITROVIC, Zeljko, Owner of TV Pink; Member of JUL Directorate (DOB 31 May 67) (individual) [FRYM]

MLADIC, Ratko, (ICTY indictee, Bosnian Serb) (DOB 12 Mar 43; POB Bozinovici, Bosnia Herzegovina) (individual) [FRYM]

MRKSIC, Milan, (ICTY indictee, Serb) (DOB 20 Jul 47) (individual) [FRYM]

OJDANIC, Dragoljub, Ex-Minister of Defense, Federal Republic of Yugoslavia; (ICTY indictee) (DOB 1 Jun 41; POB Ravni, Cajetina) (individual) [FRYM]

PAUNOVIC, Radisav, General Manager of Izvozna Banka AD (individual) [FRYM]

PAVKOVIC, Nebojsa, Chief of General Staff, Army (DOB 10 Apr 46; POB Senjski Rudnik, Despotovac Municipality, Pozarevac, Serbia) (individual) [FRYM]

PENEZIC, Branislav, General Manager of DUNAV Banka AD (individual) [FRYM]

PETROVIC, Radoje, General Manager for International Payments of Beogradska Banka (individual) [FRYM]

RADENKOVIC, Ljiljana, Anglo-Yugoslav Bank London; Antexol Trading Ltd., Cyprus (individual) [FRYM]

RADIC, Miroslav, (ICTY indictee, Serb) (DOB 1 Jan 61) (individual) [FRYM]

RAHMAN, Pavle, General Manager for Funds and Liquidity of Beogradska Banka (individual) [FRYM]

RAJIC, Ivica, (ICTY indictee, Bosnian Croat) (DOB 5 May 58; POB Johovac) (individual) [FRYM]

RAKETIC, Srdjan, Director General of Privredna Banka Pancevo AD (individual) [FRYM]

RISTIC, Ljubisa, President of JUL (DOB 8 Feb 47) (individual) [FRYM]

RISTIC, Milorad, Director General of Niska Banka AD (individual) [FRYM]

RODIC, Milan, Member of JUL Directorate; CEO Serbian Lumber Monopoly (DOB 11 Dec 48) (individual) [FRYM]

SAINOVIC, Nikola, Ex-Deputy Prime Minister, Federal Republic of Yugoslavia; (ICTY indictee) (DOB 7 Dec 48; POB Bor, Serbia) (individual) [FRYM]

SEKULIC, Zarko, Director-General of Agrobanka AD (individual) [FRYM]

SIMANOVIC, Vojislav, General Manager of PKB; President of JUL Comm. for Agri. (DOB 23 Sep 53) (individual) [FRYM]

SIMIC, Blagoje, (ICTY indictee, Bosnian Serb) (DOB 1 Jul 60; POB Kruskovo, Polje) (individual) [FRYM]

SLIJIVANCANIN, Veselin, (ICTY indictee, Serb) (DOB 13 Jun 53) (individual) [FRYM]

SOKOLOVACKI, Zivko, Member of JUL Directorate; Chairman of the Board, Nis (individual) [FRYM]

STANKOVIC, Radovan, (ICTY indictee, Bosnian Serb) (DOB 10 Mar 69; POB Trebica) (individual) [FRYM]

STANKOVIC, Srboljub, Director of NIS Naftagas; Member of JUL Directorate (DOB 1940) (individual) [FRYM]

STOJILJKOVIC, Vlajko, Ex-Minister of the Interior, Serbia; (ICTY indictee) (DOB 1937; POB Mala Krsna, Serbia) (individual) [FRYM]

TOMASEVIC, Ljiljana, Executive Director of Beogradska Banka (individual) [FRYM]

TOMOVIC, Slobodan, SPS Regional head KRAGUJEVAC; ex-Minister of Energy, Federal Republic of Yugoslavia; Member of SPS Main Committee (DOB 1946) (individual) [FRYM]

UNKOVIC, Slobodan, Federal Republic of Yugoslavia Ambassador to China (DOB 1938) (individual) [FRYM]

VASILJEVIC, Jezdimir, Director of failed pyramid scheme based out of Jugoskandik Bank (DOB 1948) (individual) [FRYM]

VLATKOVIC, Dusan, Ex-Governor, NBJ, member of JUL (DOB 12 Feb 38) (individual) [FRYM]

VUCIC, Borka, Minister for Cooperation with International Financial Institutions, Federal Republic of Yugoslavia (DOB 4 Apr 26) (individual) [FRYM]

VUKOVIC, Slobodan, General Manager of PRVA Preduzetnicka Banka AD (DOB 2 Jan 40) (individual) [FRYM]

ZECEVIC, Miodrag, Director of Jubmes Bank (individual) [FRYM]

ZELENOVIC, Dragan, (ICTY indictee, Bosnian Serb) (DOB 12 Feb 61) (individual) [FRYM]

6. Appendix A to 31 CFR chapter V is further amended by adding the following names of individuals and organizations identified in Executive Order 13219 inserted in alphabetical order:

ADEMI, Xhevat, Member of National Liberation Army (NLA) (DOB: 8 Dec 1962; POB: Tetovo, FYROM) (individual) [BALKANS]

AHMETI, Ali, Member of National Liberation Army (NLA) (DOB: 4 Jan 1959; POB: Kicevo, FYROM) (individual) [BALKANS]

BEXHETI, Nuri, Member of National Liberation Army (NLA) (DOB: 1962; POB: Tetovo, FYROM) (individual) [BALKANS]

DALIPI, Tahir, Member of Political Council of Presevo, Medvedja, and Bujanovac (PCPMB) (DOB: 1958; POB: Ilince, Presevo mun., FRY) (individual) [BALKANS]

ELSHANI, Gafur, Member of Popular Movement of Kosovo (LPK) (DOB: 29 Mar 1958; POB: Suva Reka, FRY) (individual) [BALKANS]

GASHI, Sabit, Member of National Movement for the Liberation of Kosovo (LKCK) (DOB: 30 Dec 1967; POB: Suva Reka, FRY) (individual) [BALKANS]

HABIBI, Skender, Member of Party for Democratic Progress for Kosovo (PDK) (DOB: 13 Jul 1968; POB: Ljubiste, FRY) (individual) [BALKANS]

HARADINAJ, Daut, Chief of Staff of Kosovo Protection Corps (KPC) (DOB: 6 Apr 1978; POB: Goldane, FRY) (individual) [BALKANS]

HASANI, Xhavit, Member of National Liberation Army (NLA) (DOB: 5 May 1957; POB: Tanishec, FYROM) (individual) [BALKANS]

LIBERATION ARMY OF PRESEVO, MEDVEDJA, AND BUJANOVAC (a.k.a. PMBLA; a.k.a. UCPMB) [BALKANS]

LKCK (a.k.a. NATIONAL MOVEMENT FOR THE LIBERATION OF KOSOVO) [BALKANS]

LLADROVICI, Ramiz, Deputy Commander, Guard & Rapid Reaction Group of Kosovo Protection Corps (KPC) (DOB: 3 Jan 1966) (individual) [BALKANS]

LPK (a.k.a. POPULAR MOVEMENT OF KOSOVO) [BALKANS]

LUSHTAKU, Sami, Regional Task Group 2 Commander of Kosovo Protection Corps (KPC) (DOB: 20 Feb 1961; POB: Srbica, FRY) (individual) [BALKANS]

MUSLIU, Jonusz, Member of Political Council of Presevo, Medvedja, and Bujanovac (PCPMB) (DOB: 5 Jan 1959; POB: Konculj, FRY) (individual) [BALKANS]

MUSLIU, Shefqet, Member of Liberation Army of Presevo, Medvedja, and Bujanovac (UCPMB) (DOB: 12 Feb 1963; POB: Konculj, FRY) (individual) [BALKANS]

MUSTAFA, Rrustem, Regional Task Group 6 Commander of Kosovo Protection Corps (KPC) (DOB: 27 Feb 1971; POB: Podujevo, FRY) (individual) [BALKANS]

NATIONAL LIBERATION ARMY (a.k.a. NLA; a.k.a. UCK) [BALKANS]

NATIONAL MOVEMENT FOR THE LIBERATION OF KOSOVO (a.k.a. LKCK) [BALKANS]

NLA (a.k.a. NATIONAL LIBERATION ARMY; a.k.a. UCK) [BALKANS]

OSTREMI, Gezim, Member of National Liberation Army (NLA) (DOB: 1 Nov 1942; POB: Debar, Macedonia) (individual) [BALKANS]

PCPMB (a.k.a. POLITICAL COUNCIL OF PRESEVO, MEDVEDJA, AND BUJANOVAC) [BALKANS]

PMBLA (a.k.a. LIBERATION ARMY OF PRESEVO, MEDVEDJA, AND BUJANOVAC; a.k.a. UCPMB) [BALKANS]

POLITICAL COUNCIL OF PRESEVO, MEDVEDJA, AND BUJANOVAC (a.k.a. PCPMB) [BALKANS]

POPULAR MOVEMENT OF KOSOVO (a.k.a. LPK) [BALKANS]

SELIMI, Rexhep, Commander, Guard & Rapid Reaction Group of Kosovo Protection Corps (KPC) (DOB: 15 Mar 1971; POB: Iglarevo, FRY) (individual) [BALKANS]

SHAKIRI, Hisni, Member of National Liberation Army (NLA) (DOB: 1 Mar 1949; POB: Otlja, FYROM) (individual) [BALKANS]

SHAQIRI, Shaqir, Member of Liberation Army of Presevo, Medvedja, and Bujanovac (UCPMB) (DOB: 1 Sep 1964; POB: FRY) (individual) [BALKANS]

SUMA, Emrush, Member of National Liberation Army (NLA) (DOB: 27 May 1974; POB: Dimce, FRY) (individual) [BALKANS]

SYLA, Azem, Member of Party for Democratic Progress for Kosovo (PDK) (DOB: 5 Apr 1951; POB: FRY) (individual) [BALKANS]

UCK (a.k.a. NATIONAL LIBERATION ARMY; a.k.a. NLA) [BALKANS]

UCPMB (a.k.a. LIBERATION ARMY OF PRESEVO, MEDVEDJA, AND BUJANOVAC; a.k.a. PMBLA) [BALKANS]

VELIU, Fazli, Member of National Liberation Army (NLA) (DOB: 4 Jan 1945; POB: Kercove, FYROM) (individual) [BALKANS]

XHEMAJLI, Emrush, Member of Popular Movement of Kosovo (LPK) (DOB: 5 May 1959; POB: Urosevac, FRY) (individual) [BALKANS]

XHEMAJLI, Muhamet, Member of Liberation Army of Presevo, Medvedja, and Bujanovac (UCPMB) (DOB: 8 Feb 1958; POB: Muhovac, FRY) (individual) [BALKANS]

PART 539—WEAPONS OF MASS DESTRUCTION TRADE CONTROL REGULATIONS

1. The authority citation for part 539 is amended to read as follows:

Authority: 3 U.S.C. 301; 22 U.S.C. 2751-2799aa-2; 31 U.S.C. 321(b); 50 U.S.C. 1601-1651, 1701-1706; E.O. 12938, 59 FR 59099, 3 CFR, 1994 Comp., p. 950; E.O. 13094, 63 FR 40803, 3 CFR, 1998 Comp., p. 200.

2. Appendix I to 31 CFR part 539 is amended by removing item 5 (INOR Scientific Center, including at Moscow, Russia) and item 7 (Polyus Scientific Production Association, including at 3 Ulitsa Vvedenskogo, 117342 Moscow, Russia) and redesignating item 6 as item 5 and items 8 through 10 as items 6 through 8.

Dated: September 24, 2001.
R. Richard Newcomb,
Director, Office of Foreign Assets Control.
Approved: September 27, 2001.
Jimmy Gurulé,
Under Secretary (Enforcement), Department of the Treasury.

[FR Doc. 01-28626 Filed 11-9-01; 3:32 pm]

BILLING CODE 4810-25-P